FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202) 523-5793 or tradeanalysis@fmc.gov.

Agreement No.: 012429-003.

Agreement Name: THE Alliance Agreement.

Parties: Hapag Lloyd AG & Hapag-Lloyd USA, LLC (acting as a single party); Ocean Network Express Pte. Ltd.; and Yang Ming Marine Transport Corporation & Yangming (UK) Ltd. (acting as a single party).

Filing Party: Joshua Stein, Cozen O'Connor.

Synopsis: The Amendment authorizes the Parties to increase the amount contributed by each party to the contingency fund after the transition from five Parties to three, and deletes provisions that are no longer necessary since the transition of membership from the three Japanese lines to Ocean Network Express Pte. Ltd. The Parties have requested Expedited Review.

Proposed Effective Date: 9/1/2018.

Location: http://fmcinet/Fmc.Agreements.Web/Public/AgreementHistory/1912.

Dated: July 19, 2018.
Rachel Dickon,
Secretary.

[FR Doc. 2018-15809 Filed 7-23-18; 8:45 am]

BILLING CODE 6731-AA-P